DEPARTMENT OF ENERGY

Federal Energy Regulatory Commission

Combined Notice of Filings #1

Take notice that the Commission received the following electric corporate filings:

Docket Numbers: EC22-3-000.

Applicants: MPH AL Pierce, LLC.

Description: Application for Authorization Under Section 203 of the Federal Power Act of MPH AL Pierce, LLC.

Filed Date: 10/15/21.

Accession Number: 20211015-5119.

Comment Date: 5 p.m. ET 11/5/21.

Take notice that the Commission received the following exempt wholesale generator filings:

Docket Numbers: EG22-8-000.

Applicants: Sagebrush Line, LLC.

Description: Notice of Self-Certification of Exempt Wholesale Generator Status of Sagebrush Line, LLC.

Filed Date: 10/15/21.

Accession Number: 20211015-5148.

Comment Date: 5 p.m. ET 11/5/21.

Take notice that the Commission received the following electric rate filings:

Docket Numbers: ER10-2532-017.

Applicants: Crescent Ridge LLC.

Description: Notice of Non-Material Change in Status of Crescent Ridge LLC.

Filed Date: 9/16/21.

Accession Number: 20210916-5175.

Comment Date: 5 p.m. ET 11/5/21.

Docket Numbers: ER20-1298-001.

Applicants: Midcontinent Independent System Operator, Inc.

Description: Compliance filing: 2021-10-15_MISO TOs Order 864 Compliance Amendment filing to be effective 1/27/2020.

Filed Date: 10/15/21.

Accession Number: 20211015-5132.

Comment Date: 5 p.m. ET 11/5/21.

Docket Numbers: ER20-1505-004.

Applicants: Basin Electric Power Cooperative.

Description: Amendment to June 29, 2021 Triennial Market Power Analysis for Southwest Power Pool, Inc. Region of Basin Electric Power Cooperative.

Filed Date: 10/8/21.

Accession Number: 20211008-5246.

Comment Date: 5 p.m. ET 10/29/21.

Docket Numbers: ER21-2888-001.

Applicants: Tri-State Generation and Transmission Association, Inc.

Description: Tariff Amendment: Errata to Amendment to Rate Schedule FERC No. 71 to be effective 9/16/2021.

Filed Date: 10/15/21.

Accession Number: 20211015-5103.

Comment Date: 5 p.m. ET 11/5/21.

Docket Numbers: ER22-98-000.

Applicants: Empire Offshore Wind LLC.

Description: Request for Limited Waiver and Expedited Action of Empire Offshore Wind LLC.

Filed Date: 10/13/21.

Accession Number: 20211013-5208.

Comment Date: 5 p.m. ET 11/3/21.

Docket Numbers: ER22-112-000.

Applicants: Southwest Power Pool, Inc.

Description: § 205(d) Rate Filing: 3517R3 Plum Creek Wind, LLC GIA to be effective 9/29/2021.

Filed Date: 10/15/21.

Accession Number: 20211015-5014.

Comment Date: 5 p.m. ET 11/5/21.

Docket Numbers: ER22-113-000.

Applicants: ISO New England Inc.

Description: § 205(d) Rate Filing: ISO-NE; 2022 Capital Budget & Rev Tariff Sheets for Recovery of 2022 Admin Costs to be effective 1/1/2022.

Filed Date: 10/15/21.

Accession Number: 20211015-5023.

Comment Date: 5 p.m. ET 11/5/21.

Docket Numbers: ER22-114-000.

Applicants: PJM Interconnection, L.L.C.

Description: § 205(d) Rate Filing: Original ISA, Service Agreement No. 6194; Queue AD1-140 to be effective 10/18/2021.

Filed Date: 10/15/21.

Accession Number: 20211015-5027.

Comment Date: 5 p.m. ET 11/5/21.

Docket Numbers: ER22-115-000.

Applicants: Michigan Electric Transmission Company, LLC.

Description: § 205(d) Rate Filing: METC Rate Schedule No. 79 TSA with Midland Cogeneration Venture to be effective 12/15/2021.

Filed Date: 10/15/21.

Accession Number: 20211015-5039.

Comment Date: 5 p.m. ET 11/5/21.

Docket Numbers: ER22-116-000.

Applicants: Midcontinent Independent System Operator, Inc.

Description: Compliance filing: 2021-10-15_Request for Order re: OMS Authorized Agency status to be effective N/A.

Filed Date: 10/15/21.

Accession Number: 20211015-5050.

Comment Date: 5 p.m. ET 10/22/21.

Docket Numbers: ER22-117-000.

Applicants: ISO New England Inc.

Description: § 205(d) Rate Filing: ISO-NE; Revised Tariff Sheets for Recovery of Costs for 2022 Operation of NESCOE to be effective 1/1/2022.

Filed Date: 10/15/21.

Accession Number: 20211015-5054.

Comment Date: 5 p.m. ET 11/5/21.

Docket Numbers: ER22-118-000.

Applicants: Southern California Edison Company.

Description: § 205(d) Rate Filing: Third Amended LGIA SA No. 98 Maverick Solar (Correction) to be effective 12/15/2021.

Filed Date: 10/15/21.

Accession Number: 20211015-5059.

Comment Date: 5 p.m. ET 11/5/21.

Docket Numbers: ER22-119-000.

Applicants: Southwest Power Pool, Inc.

Description: § 205(d) Rate Filing: 1977R17 Nemaha-Marshall Electric Cooperative NITSA and NOA to be effective 10/1/2021.

Filed Date: 10/15/21.

Accession Number: 20211015-5079.

Comment Date: 5 p.m. ET 11/5/21.

Docket Numbers: ER22-120-000.

Applicants: Southern California Edison Company.

Description: Tariff Amendment: Amended GIA Tours Solar, LLC SA No. 980 & Termination of eTariff Record to be effective 10/16/2021.

Filed Date: 10/15/21.

Accession Number: 20211015-5082.

Comment Date: 5 p.m. ET 11/5/21.

Docket Numbers: ER22-121-000.

Applicants: Southern California Edison Company.

Description: Tariff Amendment: Amended GIA Syracuse Solar, LLC SA No. 978 & Termination of eTariff Record to be effective 10/16/2021.

Filed Date: 10/15/21.

Accession Number: 20211015-5100.

Comment Date: 5 p.m. ET 11/5/21.

Docket Numbers: ER22-122-000.

Applicants: LS Power Grid New York Corporation I, New York Independent System Operator, Inc.

Description: § 205(d) Rate Filing: LS Power Grid New York Corporation I submits tariff filing per 35.13(a)(2)(iii: LSPGNY 205 filing: Commencement of Collection of Regulatory Assets to be effective 1/1/2022.

Filed Date: 10/15/21.

Accession Number: 20211015-5121.

Comment Date: 5 p.m. ET 11/5/21.

Docket Numbers: ER22-123-000.

Applicants: Hecate Energy Highland LLC.

Description: Baseline eTariff Filing: Application for MBR Authorization and Requests for Certain Waivers, et al. to be effective 10/16/2021.

Filed Date: 10/15/21.

Accession Number: 20211015-5131.

Comment Date: 5 p.m. ET 11/5/21.

Docket Numbers: ER22-124-000.

Applicants: PJM Interconnection, L.L.C.

Description: § 205(d) Rate Filing: Amendment to ISA, Service Agreement No. 5319; Queue No. AB2-015 to be effective 3/7/2019.

Filed Date: 10/15/21.

Accession Number: 20211015-5163.

Comment Date: 5 p.m. ET 11/5/21.

Docket Numbers: ER22-125-000.

Applicants: ISO New England Inc.

Description: ISO New England Inc., submits Third Quarter 2021 Capital Budget Report.

Filed Date: 10/15/21.

Accession Number: 20211015-5164.

Comment Date: 5 p.m. ET 11/5/21.

Take notice that the Commission received the following electric securities filings:

Docket Numbers: ES22-9-000.

Applicants: Baltimore Gas and Electric Company.

Description: Application Under Section 204 of the Federal Power Act for Authorization to Issue Securities of Baltimore Gas and Electric Company.

Filed Date: 10/15/21.

Accession Number: 20211015-5134.

Comment Date: 5 p.m. ET 11/5/21.

Docket Numbers: ES22-10-000.

Applicants: Commonwealth Edison Company.

Description: Application Under Section 204 of the Federal Power Act for Authorization to Issue Securities of Commonwealth Edison Company.

Filed Date: 10/15/21.

Accession Number: 20211015-5141.

Comment Date: 5 p.m. ET 11/5/21.

Docket Numbers: ES22-11-000.

Applicants: PECO Energy Company.

Description: Application Under Section 204 of the Federal Power Act for Authorization to Issue Securities of PECO Energy Company.

Filed Date: 10/15/21.

Accession Number: 20211015-5142.

Comment Date: 5 p.m. ET 11/5/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 15, 2021.
Debbie-Anne A. Reese,
Deputy Secretary.

[FR Doc. 2021-22986 Filed 10-20-21; 8:45 am]

BILLING CODE 6717-01-P